INTERNATIONAL TRADE COMMISSION

[Inv. No. 337-TA-499]

In the Matter of Certain Audio Digital-to-Analog Converters and Products Containing Same; Notice of Commission Decision Not To Review an Initial Determination Granting a Motion To Amend the Complaint and Notice of Investigation To Add Another Patent and Eight Patent Claims

AGENCY: U.S. International Trade Commission.

ACTION: Notice.

SUMMARY: Notice is hereby given that the U.S. International Trade Commission has determined not to review the presiding administrative law judge's (“ALJ's”) initial determination (“ID”) (Order No. 5) granting a motion to amend the complaint and notice of investigation to add allegations of infringement of five additional claims of U.S. Patent No. 6,492,928 B1 (“the ‘928 patent”) and three claims of U.S. Patent No. 6,011,501 (“the ‘501 patent”).

FOR FURTHER INFORMATION CONTACT: Clara Kuehn, Esq., Office of the General Counsel, U.S. International Trade Commission, 500 E Street, SW., Washington, DC 20436, telephone (202) 205-3012. Copies of the public version of the ALJ's ID and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on November 14, 2003, based on a complaint filed on behalf of Cirrus Logic, Inc. of Austin, Texas. 68 FR 64641 (Nov. 14, 2003). The complaint, as supplemented, alleged violations of section 337 of the Tariff Act of 1930 in the importation into the United States, sale for importation, and sale within the United States after importation of certain audio digital-to-analog converters and products containing same by reason of infringement of claims 1 and 11 of the ‘928 patent. The notice of investigation named two respondents: Wolfson Microelectronics, PLC of Edinburgh, United Kingdom; and Wolfson Microelectronics, Inc. of San Diego, Calif. (collectively “Wolfson”). Id.

On December 9, 2003, complainant moved pursuant to Commission rule 210.14(b) to amend the complaint and notice of investigation to add five additional claims of the single patent in issue and three claims of another patent to the scope of the investigation, viz., claims 2, 3, 5, 6, and 15 of the ‘928 patent, and claims 9, 12, and 19 of the ‘501 patent. On December 17, 2003, the Commission investigative attorney filed a response supporting the motion. In a response dated December 17, 2003, Wolfson opposed complainant's motion to the extent that it sought to add the ‘501 patent to this investigation. The parties presented oral argument at a preliminary conference on December 18, 2003. Pursuant to a request by the ALJ at the preliminary conference, complainant and Wolfson filed supplemental submissions on December 23, 2003.

On December 29, 2003, the ALJ issued an ID (Order No. 5) granting the motion to amend the complaint and notice of investigation to add claims 2, 3, 5, 6, and 15 of the ‘928 patent, and claims 9, 12, and 19 of the ‘501 patent. No party petitioned for review of the ID.

The authority for the Commission's determination is contained in section 337 of the Tariff Act of 1930, as amended (19 U.S.C. 1337), and in section 210.42 of the Commission's Rules of Practice and Procedure (19 CFR 210.42).

Issued: January 21, 2004.
By order of the Commission.
Marilyn R. Abbott,
Secretary to the Commission.

[FR Doc. 04-1739 Filed 1-27-04; 8:45 am]

BILLING CODE 7020-02-P